DEPARTMENT OF HEALTH AND HUMAN SERVICES

National Institutes of Health

Center For Scientific Review; Amended Notice of Meeting

Notice is hereby given of a change in the meeting of the Cognitive Neuroscience Study Section, October 7, 2004, 8 a.m. to October 8, 2004, 4 p.m. Hyatt Regency Bethesda, One Bethesda Metro Center, 7400 Wisconsin Avenue, Bethesda, MD 20814 which was published in the Federal Register on August 31, 2004, 69 FR 53082-53083.

The meeting will be held one day only October 7, 2004, from 8 a.m. to 5 p.m. The location remains the same. The meeting is closed to the public.

Dated: September 7, 2004.
LaVerne Y. Stringfield,
Director, Office of Federal Advisory Committee Policy.

[FR Doc. 04-20824 Filed 9-15-04; 8:45 am]

BILLING CODE 4140-01-M